ENVIRONMENTAL PROTECTION AGENCY

[FRL-6576-6]

Notice of Prevention of Significant Deterioration (PSD) Final Determination for Knauf Fiberglass, GmbH, Shasta Lake, CA

AGENCY: Environmental Protection Agency.

ACTION: Notice of final action.

SUMMARY: The purpose of this notice is to announce that, on March 14, 2000, the Environmental Protection Agency (EPA) Environmental Appeals Board (Board) dismissed all petitions for review of a permit issued for the Knauf Fiberglass, GmbH, by the Shasta County Air Quality Management District (District) pursuant to the Prevention of Significant Deterioration of Air Quality (PSD) regulations under 40 CFR 52.21.

DATES: The effective date for the Board's decision is March 14, 2000.

FOR FURTHER INFORMATION CONTACT: Duong Nguyen, Permits Office, Air Division, U.S. EPA Region IX, 75 Hawthorne Street, San Francisco, CA 94105, (415) 744-1142.

SUPPLEMENTARY INFORMATION: On August 17, 1999, the District issued a revised Authority to Construct (ATC) to Knauf Fiberglass for the construction of a new fiberglass manufacturing facility in Shasta Lake, CA. The revised ATC was issued after the Board remanded the original permit to the District following the first round of petitions to include a revised Best Available Control Technology (BACT) analysis and environmental justice (EJ) documentation provided by EPA, Region 9. The revised ATC, issued on August 17, 1999, also constituted a final PSD Permit under 40 CFR 52.21 and the terms of the District's delegation of authority from the U.S. EPA under 40 CFR 52.21(u). Subsequent to the issuance of the revised ATC, the Board received 65 petitions for review from citizens, citizen groups, and another fiberglass manufacturer. On March 14, 2000, the Board denied review of all 65 petitions for the following reasons: (1) Many of the petitions failed to meet the Board's requirement that issues be raised with specificity; (2) most of the miscellaneous issues raised in the petitions are outside the scope of review for this post-remand appeal; (3) the supplemental BACT analysis and revised BACT determination provide ample support for the District's final decisions on BACT and the revised permit conditions on PM10 emissions; (4) the petitioners failed to contradict Region 9's EJ analysis showing that the proposed facility's will not have disproportionately high or adverse human health or environmental effects on a minority or low-income population; and (5) the new National Emission Standards for Hazardous Air Pollutants (NESHAP) requirement applicable to the fiberglass manufacturing industry was appropriately cross-referenced in the revised permit. (See In re: Knauf Fiberglass, GmbH, PSD Appeal Nos. 99-8 through 99-72.)

Pursuant to 40 CFR 124.19(f)(2), for purposes of judicial review, final Agency action occurs when a final PSD permit is issued and Agency review procedures are exhausted. This notice, being published today in the FR, constitutes notice of the final Agency action denying review of the PSD permit. If available, judicial review of these determinations under section 307(b)(1) of the CAA may be sought only by the filing of a petition for review in the United States Court of Appeals for the appropriate circuit within 60 days from the date on which this determination is published in the FR. Under section 307(b)(2) of this Act, this determination shall not be subject to later judicial review in any civil or criminal proceedings for enforcement.

Dated: March 30, 2000.
David P. Howekamp,
Director, Air Division, Region IX.

[FR Doc. 00-9096 Filed 4-11-00; 8:45 am]

BILLING CODE 6560-50-P